DEPARTMENT OF TRANSPORTATION

Federal Aviation Administration

14 CFR Part 97

[Docket No. 31275; Amdt. No. 3872]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective October 1, 2019. The compliance date for each SIAP, associated Takeoff Minimums, and ODP is specified in the amendatory provisions.

The incorporation by reference of certain publications listed in the regulations is approved by the Director of the Federal Register as of October 1, 2019.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on September 20, 2019.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31; RADAR SIAPs; § 97.33 RNAV SIAPs; and § 97.35 COPTER SIAPs, Identified as follows:

* * * Effective Upon Publication

AIRAC date | State | City | Airport | FDC No. | FDC date | Subject
7-Nov-19 | OK | Tulsa | Tulsa Intl | 9/0624 | 9/4/19 | Takeoff Minimums and Obstacle DP, Amdt 1A.
7-Nov-19 | AR | Colt | Delta Rgnl | 9/0633 | 9/4/19 | RNAV (GPS) RWY 18, Orig-A.
7-Nov-19 | AR | Colt | Delta Rgnl | 9/0636 | 9/4/19 | RNAV (GPS) RWY 36, Orig-A.
7-Nov-19 | WI | Clintonville | Clintonville Muni | 9/2113 | 9/4/19 | RNAV (GPS) RWY 4, Amdt 2.
7-Nov-19 | WI | Clintonville | Clintonville Muni | 9/2122 | 9/4/19 | RNAV (GPS) RWY 14, Amdt 2.
7-Nov-19 | WI | Clintonville | Clintonville Muni | 9/2128 | 9/4/19 | RNAV (GPS) RWY 22, Amdt 1.
7-Nov-19 | WI | Clintonville | Clintonville Muni | 9/2129 | 9/4/19 | RNAV (GPS) RWY 32, Amdt 2.
7-Nov-19 | CA | Tracy | Tracy Muni | 9/2664 | 9/3/19 | RNAV (GPS) RWY 30, Amdt 1A.
7-Nov-19 | CA | Tracy | Tracy Muni | 9/2665 | 9/3/19 | RNAV (GPS) RWY 12, Amdt 2A.
7-Nov-19 | CA | Tracy | Tracy Muni | 9/2666 | 9/3/19 | VOR RWY 26, Amdt 1.
7-Nov-19 | CA | Tracy | Tracy Muni | 9/2673 | 9/3/19 | RNAV (GPS) RWY 26, Amdt 1B.
7-Nov-19 | CA | Lincoln | Lincoln Rgnl/Karl Harder Field | 9/4802 | 9/17/19 | RNAV (GPS) RWY 33, Orig-A.
7-Nov-19 | TX | Harlingen | Valley Intl | 9/4889 | 9/4/19 | VOR/DME RWY 17R, Orig-A.
7-Nov-19 | TN | Smithville | Smithville Muni | 9/5548 | 9/17/19 | RNAV (GPS) RWY 6, Amdt 3A.
7-Nov-19 | TN | Smithville | Smithville Muni | 9/5549 | 9/17/19 | RNAV (GPS) RWY 24, Amdt 3A.
7-Nov-19 | TN | Portland | Portland Muni | 9/5551 | 9/17/19 | RNAV (GPS) RWY 1, Orig-A.
7-Nov-19 | TN | Portland | Portland Muni | 9/5552 | 9/17/19 | RNAV (GPS) RWY 19, Orig-A.
7-Nov-19 | UT | Milford | Milford Muni/Ben And Judy Briscoe Field | 9/5554 | 9/17/19 | RNAV (GPS) RWY 16, Orig-B.
7-Nov-19 | UT | Milford | Milford Muni/Ben And Judy Briscoe Field | 9/5555 | 9/17/19 | RNAV (GPS) RWY 34, Orig-A.
7-Nov-19 | UT | Delta | Delta Muni | 9/5557 | 9/17/19 | RNAV (GPS) RWY 17, Amdt 1C.
7-Nov-19 | CA | Hanford | Hanford Muni | 9/5559 | 9/16/19 | RNAV (GPS) RWY 32, Amdt 2.
7-Nov-19 | VA | Culpeper | Culpeper Rgnl | 9/5562 | 9/17/19 | RNAV (GPS) RWY 4, Orig.
7-Nov-19 | VA | Culpeper | Culpeper Rgnl | 9/5563 | 9/17/19 | RNAV (GPS) RWY 22, Orig.
7-Nov-19 | VA | Chase City | Chase City Muni | 9/5572 | 9/17/19 | RNAV (GPS) RWY 18, Amdt 1B.
7-Nov-19 | VA | Chase City | Chase City Muni | 9/5574 | 9/17/19 | RNAV (GPS) RWY 36, Amdt 1A.
7-Nov-19 | OR | Bend | Bend Muni | 9/5587 | 9/17/19 | RNAV (GPS) Z RWY 16, Orig-A.
7-Nov-19 | OR | Bend | Bend Muni | 9/5588 | 9/17/19 | RNAV (GPS) RWY 34, Orig-A.
7-Nov-19 | OR | Medford | Rogue Valley Intl—Medford | 9/5600 | 9/17/19 | RNAV (GPS) Y RWY 14, Amdt 2.
7-Nov-19 | IL | Mount Carmel | Mount Carmel Muni | 9/5622 | 9/17/19 | RNAV (GPS) RWY 31, Orig.
7-Nov-19 | IL | Mount Carmel | Mount Carmel Muni | 9/5627 | 9/17/19 | RNAV (GPS) RWY 4, Orig-B.
7-Nov-19 | IL | Mount Carmel | Mount Carmel Muni | 9/5631 | 9/17/19 | RNAV (GPS) RWY 22, Orig-A.
7-Nov-19 | OR | Mc Minnville | Mc Minnville Muni | 9/5634 | 9/17/19 | RNAV (GPS) RWY 4, Orig-D.
7-Nov-19 | OR | Mc Minnville | Mc Minnville Muni | 9/5635 | 9/17/19 | RNAV (GPS) RWY 22, Orig.
7-Nov-19 | PA | Corry | Corry-Lawrence | 9/5637 | 9/17/19 | RNAV (GPS) RWY 14, Amdt 1.
7-Nov-19 | KS | Elkhart | Elkhart-Morton County | 9/5643 | 9/17/19 | RNAV (GPS) RWY 4, Amdt 1A.
7-Nov-19 | KS | Elkhart | Elkhart-Morton County | 9/5644 | 9/17/19 | RNAV (GPS) RWY 17, Amdt 1A.
7-Nov-19 | KS | Elkhart | Elkhart-Morton County | 9/5645 | 9/17/19 | RNAV (GPS) RWY 22, Amdt 1A.
7-Nov-19 | KS | Elkhart | Elkhart-Morton County | 9/5647 | 9/17/19 | RNAV (GPS) RWY 35, Amdt 1B.
7-Nov-19 | PA | Corry | Corry-Lawrence | 9/5648 | 9/17/19 | RNAV (GPS) RWY 32, Amdt 1.
7-Nov-19 | PA | Danville | Danville | 9/5649 | 9/17/19 | RNAV (GPS) RWY 27, Orig-A.
7-Nov-19 | PA | Ebensburg | Ebensburg | 9/5651 | 9/17/19 | RNAV (GPS) RWY 7, Orig-B.
7-Nov-19 | PA | Ebensburg | Ebensburg | 9/5652 | 9/17/19 | RNAV (GPS) RWY 25, Orig-D.
7-Nov-19 | PA | Lehighton | Jake Arner Memorial | 9/5654 | 9/17/19 | RNAV (GPS) RWY 8, Amdt 1C.
7-Nov-19 | RI | Providence | Theodore Francis Green State | 9/5656 | 9/17/19 | RNAV (GPS) RWY 16, Orig-E.
7-Nov-19 | SC | Pelion | Lexington County | 9/5657 | 9/17/19 | RNAV (GPS) RWY 18, Orig-B.
7-Nov-19 | SC | Pelion | Lexington County | 9/5658 | 9/17/19 | RNAV (GPS) RWY 36, Orig-B.
7-Nov-19 | SD | Sturgis | Sturgis Muni | 9/5674 | 9/17/19 | RNAV (GPS) RWY 11, Amdt 1B.
7-Nov-19 | SD | Sturgis | Sturgis Muni | 9/5678 | 9/17/19 | RNAV (GPS) RWY 29, Amdt 1B.
7-Nov-19 | NE | Hartington | Hartington Muni/Bud Becker Fld | 9/5679 | 9/17/19 | RNAV (GPS) RWY 13, Orig-B.
7-Nov-19 | NE | Hartington | Hartington Muni/Bud Becker Fld | 9/5680 | 9/17/19 | RNAV (GPS) RWY 31, Orig-C.
7-Nov-19 | NE | Harvard | Harvard State | 9/5689 | 9/17/19 | RNAV (GPS) RWY 17, Orig-C.
7-Nov-19 | NE | Harvard | Harvard State | 9/5691 | 9/17/19 | RNAV (GPS) RWY 35, Amdt 1B.
7-Nov-19 | UT | Bryce Canyon | Bryce Canyon | 9/5703 | 9/17/19 | RNAV (GPS) RWY 21, Amdt 1B.
7-Nov-19 | UT | Bryce Canyon | Bryce Canyon | 9/5711 | 9/17/19 | RNAV (GPS) RWY 3, Orig-D.
7-Nov-19 | VA | Norfolk | Chesapeake Rgnl | 9/5713 | 9/17/19 | RNAV (GPS) RWY 23, Orig-A.
7-Nov-19 | CT | Windsor Locks | Bradley Intl | 9/5714 | 9/17/19 | ILS OR LOC RWY 6, Amdt 38.
7-Nov-19 | VA | Danville | Danville Rgnl | 9/5717 | 9/17/19 | RNAV (GPS) RWY 20, Orig-B.
7-Nov-19 | VA | Danville | Danville Rgnl | 9/5718 | 9/17/19 | RNAV (GPS) RWY 31, Orig-B.
7-Nov-19 | CT | Groton (New London) | Groton-New London | 9/5720 | 9/17/19 | RNAV (GPS) RWY 33, Orig-B.
7-Nov-19 | IA | Cedar Rapids | The Eastern Iowa | 9/5721 | 9/17/19 | RNAV (GPS) RWY 31, Amdt 1B.
7-Nov-19 | IA | Cedar Rapids | The Eastern Iowa | 9/5722 | 9/17/19 | RNAV (GPS) RWY 13, Amdt 1C.
7-Nov-19 | IA | Cedar Rapids | The Eastern Iowa | 9/5723 | 9/17/19 | ILS OR LOC RWY 9, Amdt 18D.
7-Nov-19 | OK | Durant | Durant Rgnl—Eaker Field | 9/5759 | 9/17/19 | RNAV (GPS) RWY 17, Amdt 1.
7-Nov-19 | OK | Durant | Durant Rgnl—Eaker Field | 9/5760 | 9/17/19 | RNAV (GPS) RWY 35, Amdt 1.
7-Nov-19 | IA | Algona | Algona Muni | 9/5773 | 9/17/19 | RNAV (GPS) RWY 12, Orig-D.
7-Nov-19 | IA | Algona | Algona Muni | 9/5774 | 9/17/19 | RNAV (GPS) RWY 30, Amdt 1C.
7-Nov-19 | WY | Douglas | Converse County | 9/5785 | 9/17/19 | RNAV (GPS) RWY 11, Orig.
7-Nov-19 | NY | Millbrook | Sky Acres | 9/5810 | 9/17/19 | RNAV (GPS) RWY 17, Amdt 2A.
7-Nov-19 | NY | Millbrook | Sky Acres | 9/5811 | 9/17/19 | RNAV (GPS) RWY 35, Amdt 1.
7-Nov-19 | OH | Medina | Medina Muni | 9/5813 | 9/17/19 | RNAV (GPS) RWY 9, Orig-C.
7-Nov-19 | OH | Medina | Medina Muni | 9/5822 | 9/17/19 | RNAV (GPS) RWY 27, Orig-B.
7-Nov-19 | OH | Youngstown | Youngstown Elser Metro | 9/5830 | 9/17/19 | RNAV (GPS) RWY 10, Orig-C.
7-Nov-19 | OH | Youngstown | Youngstown Elser Metro | 9/5831 | 9/17/19 | RNAV (GPS) RWY 28, Orig-C.
7-Nov-19 | OH | Mount Vernon | Knox County | 9/5838 | 9/17/19 | RNAV (GPS) RWY 10, Amdt 1A.
7-Nov-19 | OH | Mount Vernon | Knox County | 9/5839 | 9/17/19 | RNAV (GPS) RWY 28, Amdt 1C.
7-Nov-19 | OH | Cadiz | Harrison County | 9/5860 | 9/17/19 | RNAV (GPS) RWY 13, Orig-B.
7-Nov-19 | OH | Cadiz | Harrison County | 9/5861 | 9/17/19 | RNAV (GPS) RWY 31, Orig-B.
7-Nov-19 | OH | Wapakoneta | Neil Armstrong | 9/5866 | 9/17/19 | RNAV (GPS) RWY 8, Orig-B.
7-Nov-19 | OH | Wapakoneta | Neil Armstrong | 9/5867 | 9/17/19 | RNAV (GPS) RWY 26, Orig-A.
7-Nov-19 | GA | Cochran | Cochran | 9/5905 | 9/17/19 | RNAV (GPS) RWY 11, Amdt 1A.
7-Nov-19 | GA | Cochran | Cochran | 9/5907 | 9/17/19 | RNAV (GPS) RWY 29, Amdt 1B.
7-Nov-19 | VT | Burlington | Burlington Intl | 9/5922 | 9/17/19 | RNAV (GPS) Z RWY 33, Orig-A.
7-Nov-19 | WY | Evanston | Evanston-Uinta County Burns Field | 9/6128 | 9/17/19 | RNAV (GPS) RWY 5, Amdt 2.
7-Nov-19 | TX | Palacios | Palacios Muni | 9/7585 | 9/16/19 | RNAV (GPS) RWY 13, Orig-B.
7-Nov-19 | TX | Palacios | Palacios Muni | 9/7586 | 9/16/19 | VOR RWY 13, Amdt 10E.
7-Nov-19 | MA | Bedford | Laurence G Hanscom Fld | 9/8734 | 9/17/19 | RNAV (GPS) RWY 23, Orig-C.
7-Nov-19 | MA | Bedford | Laurence G Hanscom Fld | 9/8738 | 9/17/19 | ILS OR LOC RWY 29, Amdt 9.

[FR Doc. 2019-20988 Filed 9-30-19; 8:45 am]

BILLING CODE 4910-13-P